ENVIRONMENTAL PROTECTION AGENCY

[FRL-7618-9]

Proposed Amendment to CERCLA Section 122(h) Administrative Agreement for Recovery of Response Costs for the Amenia Town Landfill Superfund Site, Town of Amenia, Dutchess County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed amendment to an administrative agreement pursuant to section 122(h) of CERCLA, 42 U.S.C. 9622(h), for recovery of response costs concerning the Amenia Town Landfill Superfund Site (“Site”) located in the Town of Amenia, Dutchess County, New York. The proposed amendment would add two parties, Great Eastern Color Lithographic Corporation and H.O. Penn Machinery Company, Inc. to the prior cost recovery settlement concerning this Site. The prior settlement required the original settling parties, Town of Amenia, New York; Ashland, Inc.; BP America Inc.; Curtiss-Wright Corporation; International Business Machines Corporation; Alastair B. Martin; Estate of Edith Martin; Metal Improvement Company, Inc.; Town of Sharon, Connecticut; Syngenta Crop Protection, Inc.; TBG Services, Inc.; Unisys Corporation; and Weyerhaeuser Company to pay $361,873.17 in reimbursement of EPA's response costs at the Site. That settlement included a covenant not to sue the settling parties pursuant to section 107(a) of CERCLA, 42 U.S.C. 9607(a), in exchange for their payments. The prior settlement was the subject of a public notice published in 68 FR 48383 (August 13, 2003). No comments were received concerning the prior settlement which became effective on September 18, 2003. The proposed amendment to the prior settlement agreement would add the two additional parties who would be subject to the same obligations and benefits under the prior settlement as the original parties to that settlement and a further obligation to pay an additional $11,000 each ($22,000 total) in reimbursement of EPA's past costs. For thirty (30) days following the date of publication of this notice, EPA will receive written comments relating to the proposed amendment to the prior settlement. EPA will consider all comments received and may modify or withdraw its consent to the amendment to the settlement if comments received disclose facts or considerations that indicate that the proposed amendment is inappropriate, improper or inadequate. EPA's response to any comments received will be available for public inspection at EPA Region II, 290 Broadway, New York, New York 10007-1866.

DATES: Comments must be submitted on or before March 8, 2004.

ADDRESSES: The proposed amendment to the prior settlement is available for public inspection at EPA Region II offices at 290 Broadway, New York, New York 10007-1866. Comments should reference the Amenia Town Landfill Superfund Site located in the Town of Amenia, Dutchess County, New York, Index No. CERCLA-02-2003-2029. To request a copy of the proposed amendment to the prior settlement agreement, please contact the individual identified below.

FOR FURTHER INFORMATION CONTACT: George A. Shanahan, Assistant Regional Counsel, New York/Caribbean Superfund Branch, Office of Regional Counsel, U.S. Environmental Protection Agency, 17th Floor, 290 Broadway, New York, New York 10007-1866. Telephone: 212-637-3171.

Dated: January 23, 2004.
William McCabe,
Acting Director, Emergency and Remedial Response Division, Region 2.

[FR Doc. 04-2418 Filed 2-4-04; 8:45 am]

BILLING CODE 6560-50-P